DEPARTMENT OF ENERGY

Federal Energy Regulatory Commission

[Docket Nos. CP04-386-000, CP04-400-000, CP04-401-000, and CP04-402-000]

Golden Pass LNG Terminal L.P., Golden Pass Pipeline L.P.; Notice of Availability of the Final Environmental Impact Statement for the Proposed Golden Pass LNG Terminal and Pipeline Project

June 3, 2005.

The staff of the Federal Energy Regulatory Commission (FERC or Commission) has prepared a Final Environmental Impact Statement (FEIS) on the liquefied natural gas (LNG) import terminal and natural gas pipeline facilities in Jefferson, Orange, and Newton Counties, Texas, and Calcasieu Parish, Louisiana, proposed by Golden Pass LNG Terminal L.P. and Golden Pass Pipeline L.P. (collectively referred to as Golden Pass) in the above-referenced dockets.

The FEIS was prepared to satisfy the requirements of the National Environmental Policy Act (NEPA). The staff concludes that approval of the proposed project with appropriate mitigating measures as recommended, would have limited adverse environmental impact. The FEIS also evaluates alternatives to the proposal, including system alternatives, alternative sites for the LNG import terminal, and pipeline alternatives.

Golden Pass's proposed facilities would transport an average of 2.0 billion cubic feet per day (Bcfd) of imported natural gas to the U.S. market. In order to provide LNG import, storage, and pipeline transportation services, Golden Pass requests Commission authorization to construct, install, and operate an LNG terminal and natural gas pipeline facilities.

The FEIS addresses the potential environmental effects of the construction and operation of the following LNG terminal and natural gas pipeline facilities:

• A new protected marine terminal basin connected to the Port Arthur Channel that would include a ship maneuvering area, two protected berths, and unloading facilities capable of accommodating up to 200 LNG ships per year;

• A total of five all-metal, double-walled, full containment LNG storage tanks, each with a nominal working volume of approximately 155,000 cubic meters (975,000 barrels) and each with secondary containment dikes to contain 110 percent of the gross tank volume;

• A total of ten shell-and-tube vaporizers, using a closed loop circulating solution and selective catalytic reduction to reduce regulated pollutants;

• Associated LNG storage and vaporization facilities, including administrative, storage, and maintenance buildings, access roads, and a waterline;

• A pipeline system comprised of 77.8 miles of 36-inch-diameter mainline, 42.8 miles of 36-inch-diameter loop, and 1.8 miles of 24-inch-diameter lateral; and

• Associated ancillary pipeline facilities, including interconnections with up to 10 existing interstate and intrastate pipeline systems.

The FEIS has been placed in the public files of the FERC and is available for distribution and public inspection at: Federal Energy Regulatory Commission, Public Reference Room, 888 First Street, NE., Room 2A, Washington, DC 20426. (202) 502-8371.

A limited number of copies are available from the Public Reference Room identified above. In addition, copies of the FEIS have been mailed to Federal, State, and local agencies; public interest groups; individuals and affected landowners who requested a copy of the FEIS; libraries; newspapers; and parties to this proceeding.

In accordance with the Council on Environmental Quality's (CEQ) regulations implementing the National Environmental Policy Act, no agency decision on a proposed action may be made until 30 days after the U.S. Environmental Protection Agency publishes a notice of availability of an FEIS. However, the CEQ regulations provide an exception to this rule when an agency decision is subject to a formal internal appeal process which allows other agencies or the public to make their views known. In such cases, the agency decision may be made at the same time the notice of the FEIS is published, allowing both periods to run concurrently. The Commission decision for this proposed action is subject to a 30-day rehearing period.

Additional information about the project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance with eLibrary, the eLibrary helpline can be reached toll free at 1-866-208-3676, for TTY at (202) 502-8659, or at FERCOnlineSupport@ferc.gov. The eLibrary link on the FERC Internet Web site also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to the eSubscription link on the FERC Internet Web site.

Linda Mitry,
Deputy Secretary.

[FR Doc. E5-2957 Filed 6-8-05; 8:45 am]

BILLING CODE 6717-01-P